DEPARTMENT OF COMMERCE

National Oceanic and Atmospheric Administration

[Docket No. 010410087-1131-02; I.D. 032901A]

RIN 0648-AO07

New England Fishery Management Council; Notice and Request for Sea Scallop Research Proposals; Correction

AGENCY: National Marine Fisheries Service (NMFS), National Oceanic and Atmospheric Administration (NOAA), Commerce.

ACTION: Notice of solicitation for applications; correction.

SUMMARY: On May 29, 2001, NMFS published a notice in the Federal Register that provided information on the research total allowable catch (TAC) set-aside program authorized under Framework 14 to the Atlantic Sea Scallop Fishery Management Plan. The notice provided information on the submission process, eligibility criteria, proposal requirements and priorities, project evaluation, application deadlines and other requirements related to the TAC set-aside research program. One of the project funding priorities was inadvertently omitted. In addition, the document contains numerous typographical errors. This document corrects these errors.

DATES: May 29, 2001.

FOR FURTHER INFORMATION CONTACT: Patricia M. Fiorelli, New England Fishery Management Council, (978) 465-0492, or Peter Christopher, NMFS, (978) 281-9288.

SUPPLEMENTARY INFORMATION: On May 11, 2001 (66 FR 24052), NMFS published a final rule implementing Framework 14 to the Atlantic Sea Scallop Fishery Management Plan. This framework implemented a system for allowing controlled scallop fishing in the Hudson Canyon and Virginia Beach Sea Scallop Access Areas. Framework 14 also implemented a TAC set-aside program to support sea scallop research projects. Under the program, certain limited access sea scallop vessels would be allowed to land scallops in excess of the possession limit, or take additional trips above those provided for in the program, and use the proceeds of the excess catch or additional trips to offset the costs of the research proposals submitted in response to the May 29 Federal Register notice.

The notice published on May 29, 2001 (66 FR 29090), contains errors. A number of words and phrases were combined (run together) without the appropriate spacing between the words. In addition, in Section J, Project Funding Priorities, Item 8 was inadvertently omitted. This document corrects these errors.

Correction

Accordingly, the publication on May 29, 2001, the Notice of Solicitation for Applications (66 FR 29090), which was the subject of document FR Doc. 01-13416, is corrected as follows:

1. On page 29092, under Section J, in the third column:

a. Second line of Item 4, insert a space between “each” and “limited” to read “each limited”.

b. Second line of Item 5, insert a space between “reduce” and “discard” to read “reduce discard”.

c. After Item 7, insert Item 8 to read as follows:

“8. Experimental designs with control areas using alternative management strategies, such as area licensing and rotational closures (projects should include an analysis of yield improvement, habitat impacts and social impacts, including conflict resolution across fisheries);”

d. Second line of Item 12, insert a space between “life” and “history” to read “life history”.

2. On page 29092, under Section K, third column, second line of Item 3, insert a space between “likely” and “to” to read “likely to”.

3. On page 29093, under Section M, second column, second line of Item 2, insert a space between “Project” and “goals” to read “Project goals”.

4. On page 29093, under Section M, second column, second line of Item 5, insert a space between “research” and “agreements,” to read “research agreements,”

5. On page 29093, under Section N, in the third column:

a. Second line of Item 3, insert a space between “collection” and “and” to read “collection and”.

b. Second line of Item 4, insert a space between “conclusions” and “presented” to read “conclusions presented”.

c. Second line of Item 6, insert a space between “to” and “conduct” to read “to conduct”.

d. Eleventh line of Item 6, insert a space between “index.htm/” and “under” to read “index.htm/ under”.

6. On page 29093, under Section P, third column, the last line of Item 2, “selected” is corrected to read “selected.”

Authority: 16 U.S.C. 1801 et seq.

Dated: July 3, 2001.
John Oliver,
Acting Assistant Administrator for Fisheries, National Marine Fisheries Service.

[FR Doc. 01-17368 Filed 7-10-01; 8:45 am]

BILLING CODE 3510-22-S